DEPARTMENT OF COMMERCE

National Oceanic and Atmospheric Administration

Proposed Information Collection; Comment Request; Antarctic Marine Living Resources Conservation and Management Measures

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written or on-line comments must be submitted on or before February 11, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to MiAe Kim, Office of International Affairs and Seafood Inspection, 1315 East-West Hwy, Silver Spring, MD 20910; (301) 427-8365, mi.ae.kim@noaa.gov.

SUPPLEMENTARY INFORMATION:

I. Abstract

This is a request for revision of an existing information collection.

The 1982 Convention on the Conservation of Antarctic Marine Living Resources established the Commission for the Conservation of Antarctic Marine Living Resources (CCAMLR) for the purpose of protecting and conserving the marine living resources in the waters surrounding Antarctica. The Convention is based upon an ecosystem approach to the conservation of marine living resources and incorporates standards designed to ensure the conservation of individual populations and species and the Antarctic marine ecosystem as a whole.

The United States (U.S.) is a contracting party to the Convention and a member of CCAMLR and the Scientific Committee established by the Convention.

On November 8, 1984, the President signed Public Law 98-623, the Antarctic Marine Living Resources Convention Act (the Act). The Act directs and authorizes the United States to take actions necessary to meet its treaty obligations as a contracting party to the Convention. The regulations implementing the Act are at 50 CFR part 300, subpart G. The record keeping and reporting requirements at 50 CFR part 300 form the basis for this collection of information. The reporting requirements included in this collection concern CCAMLR Ecosystem Monitoring Program (CEMP) activities, scientific research in the CAMLR Convention Area, U.S. vessel permit applicants and/or harvesting vessel operators, and U.S. importers, exporters, and re-exporters of AMLR.

U.S. regulations require U.S. individuals engaged in AMLR harvesting, transshipping, and importing or entering and/or conducting activities in a CEMP site to apply for and hold a permit for such activities. Individuals involved in certain scientific research in the CAMLR Convention Area are required to report information.

Members of the Commission are required to provide, in the manner and at such intervals as may be prescribed, information about harvesting activities, including fishing areas and vessels, so as to enable reliable catch and effort statistics to be compiled.

As part of U.S. obligations to monitor and control the import, export, and re-export of Antarctic marine living resources, NOAA requires dealers to submit applications for pre-approval certifications of imports of frozen Patagonian and Antarctic toothfish (also referred to as Chilean sea bass) and applications for re-exports of these species. These applications are currently available as fillable PDF forms. NOAA is proposing to revise this collection to allow the Application for Pre-Approval Certificate to Import Frozen Toothfish and Application for Re-Export of Toothfish forms be made available in an on-line format. No other part of this collection will be revised. This revision will not affect the number of respondents, responses, burden costs, or burden hours.

II. Method of Collection

On-line applications would be made available, in addition to the current applications and fillable PDF forms, for use by participants. Methods of transmittal would include the internet and mail or email transmission of forms.

III. Data

OMB Control Number: 0648-0194.

Form Number(s): None.

Type of Review: Regular (Revision of a currently approved collection).

Affected Public: Individuals; business or other for-profit organizations.

Estimated Number of Respondents: 80 dealers.

Estimated Time per Response: 15 minutes to apply for a Pre-Approval Certificate to Import Frozen Toothfish, whether using on-line applications or fillable PDF forms; 15 minutes to complete and submit Application for Re-Export of Toothfish, whether using on-line applications or fillable PDF forms.

Estimated Total Annual Burden Hours: 260 hours.

Estimated Total Annual Cost to Public: $128,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-26827 Filed 12-12-19; 8:45 am]

BILLING CODE 3510-22-P